DEPARTMENT OF THE TREASURY

Bureau of Alcohol, Tobacco and Firearms

27 CFR Part 250

[T.D. ATF-451]

RIN 1512-AC38

Delegation of Authority (2000R-415P)

AGENCY: Bureau of Alcohol, Tobacco and Firearms (ATF), Treasury.

ACTION: Treasury decision, final rule.

SUMMARY: This final rule places ATF authorities contained in ATF regulations, with the “appropriate ATF officer” and requires that persons file documents required by ATF regulations, with the “appropriate ATF officer” or in accordance with the instructions on the ATF form. Also, this final rule removes the definitions of, and references to, specific officers subordinate to the Director and the word “region.” Concurrently with this Treasury Decision, ATF Order 1130.23 is being published. Through this order, the Director has delegated all of the authorities in ATF regulations to the appropriate ATF officers and specified the ATF officers with whom applications, notices and other reports, which are not ATF forms, are filed. In addition, this final rule makes a few corrections and provides an additional option for filing a statement of eligibility for flavors.

EFFECTIVE DATE: This rule is effective May 1, 2001.

FOR FURTHER INFORMATION CONTACT: Robert Ruhf, Regulations Division, Bureau of Alcohol, Tobacco and Firearms, 650 Massachusetts Avenue NW, Room 5003, Washington, DC 20226 (telephone 202-927-8210 or e-mail to alctob@atfhq.atf.treas.gov).

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of chapter 51 of the Internal Revenue Code of 1986 (IRC) and the Federal Alcohol Administration (FAA) Act. The Director has subsequently redelegated certain of these authorities to appropriate subordinate officers by way of various means, including by regulation, ATF delegation orders, regional directives, or similar delegation documents. As a result, to ascertain what particular officer is authorized to perform a particular function under chapter 51 of the IRC or the FAA Act, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in part 250 that were previously delegated and places those authorities with the “appropriate ATF officer.” All of the authorities of the Director that were not previously delegated are also placed with the “appropriate ATF officer.” Along with this final rule, ATF is publishing ATF Order 1130.23, Delegation Order—Delegation of the Director's Authorities in 27 CFR Part 250, Liquors and Articles from Puerto Rico and the Virgin Islands, which delegates certain of these authorities to the appropriate organizational level. The effect of these changes is to consolidate all delegations of authority in part 250 into one delegation instrument. This action both simplifies the process for determining what ATF officer is authorized to perform a particular function and facilitates the updating of delegations in the future. As a result, delegations of authority will be reflected in a more timely and user-friendly manner.

In addition, this final rule also eliminates all references in the regulations that identify the ATF officer with whom an ATF form is filed. This is because ATF forms will indicate the officer with whom they must be filed. Similarly, this final rule also amends part 250 to provide that the submission of documents other than ATF forms (such as letterhead applications, notices and reports) must be filed with the “appropriate ATF officer” identified in ATF Order 1130.23. These changes will facilitate the identification of the officer with whom forms and other required submissions are filed.

This final rule also makes various technical amendments to Subpart A—Scope of Regulations of 27 CFR part 250. First, a new § 250.3 is added to recognize the authority of the Director to delegate regulatory authorities in part 250 and to identify ATF Order 1130.23 as the instrument reflecting such delegations. Second, § 250.2 is amended to provide that the instructions for an ATF form identify the ATF officer with whom it must be filed.

ATF has made or will make similar changes in delegations to all other parts of Title 27 of the Code of Federal Regulations through separate rulemakings. By amending the regulations part by part, rather than in one large rulemaking document and ATF Order, ATF minimizes the time expended in notifying interested parties of current delegations of authority.

Miscellaneous Changes

We have given an option to file ATF Form 5154.1 for persons who require a statement of eligibility for flavors to be used in the computation of the effective tax rate for distilled spirits. This ATF form may be used in lieu of the statement of composition prescribed by 27 CFR 250.50a(b).

Corrections

Two corrections have been made. First, we have corrected the text of § 250.118 to insure that the district director is referenced in this entire section. Second, we have removed § 250.277 which no longer applies because T.D. ATF-206 (50 FR 23949) eliminated the use and reports of strip stamps.

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule, the provisions of the Regulatory Flexibility Act (5 U.S.C. 601 et seq.) do not apply. A copy of this final rule was submitted to the Chief Counsel for Advocacy of the Small Business Administration in accordance with 26 U.S.C. 7805(f). No comments were received.

Executive Order 12866

It has been determined that this rule is not a significant regulatory action because it will not: (1) Have an annual effect on the economy of $100 million or more or adversely affect in a material way the economy, a sector of the economy, productivity, competition, jobs, the environment, public health or safety, or State, local or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in Executive Order 12866.

Administrative Procedure Act

Because this final rule merely makes technical amendments and conforming changes to improve the clarity of the regulations, it is unnecessary to issue this final rule with notice and public procedure under 5 U.S.C. 553(b). Similarly it is unnecessary to subject this final rule to the effective date limitation of 5 U.S.C. 553(d).

Drafting Information

The principal author of this document is Robert Ruhf, Regulations Division, Bureau of Alcohol, Tobacco and Firearms.

List of Subjects in 27 CFR Part 250

Alcohol and alcoholic beverages, Administrative practice and procedure, Authority delegations (Government agencies), Beer, Claims, Customs duties and inspection, Electronic funds transfers, Excise taxes, Labeling, Liquors, Packaging and containers, Reporting and recordkeeping requirements, Spices and flavorings, Surety bonds, Transportation, Warehouses, Wine.

Authority and Issuance

Title 27, chapter I, Code of Federal Regulations is amended as follows:

PART 250—LIQUORS AND ARTICLES FROM PUERTO RICO AND THE VIRGIN ISLANDS

Paragraph 1. The authority citation for part 250 continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

§§ 250.2, 250.11, 250.43, 250.209, 250.314, 250.316, 250.319 and 250.331 [Amended]

Par. 2. In part 250 remove the words “Director” each place it appears and add, in substitution, the words “appropriate ATF officer” in the following places:

a. Section 250.2(a);

b. The definition of “Liquor bottle” in § 250.11;

c. Section 250.43;

d. Section 250.209;

e. The first sentence of § 250.314(b);

f. Section 250.316;

g. Section 250.319; and

h. The third, fourth and last sentence of § 250.331(b).

Par. 3. Section 250.2 is further amended by adding a sentence at the end of paragraph (a) and revising paragraph (b) to read as follows:

§ 250.2 Forms prescribed.

(a) * * * The form will be filed in accordance with the instructions for the form.

(b) Forms may be requested from the ATF Distribution Center, P.O. Box 5950, Springfield, Virginia 22150-5950, or by accessing the ATF web site (http://www.atf.treas.gov/).

Par. 4. In Subpart A—Scope of Regulations, a new § 250.3 is added as follows:

§ 250.3 Delegations of the Director.

All of the regulatory authorities of the Director contained in this part 250 are delegated to appropriate ATF officers. These ATF officers are specified in ATF Order 1130.23, Delegation Order—Delegation of the Director's Authorities in 27 CFR Part 250, Liquors and Articles from Puerto Rico and the Virgin Islands. ATF delegation orders, such as ATF Order 1130.23, are available to any interested person by mailing a request to the ATF Distribution Center, P.O. Box 5950, Springfield, Virginia 22150-5950, or by accessing the ATF web site (http://www.atf.treas.gov/).

Par. 5. Section 250.11 is further amended by:

a. Removing the definitions of “ATF officer”, “Chief, Puerto Rico Operations, “Region”, “Regional director (compliance), and “United States Bureau of Alcohol, Tobacco and Firearms office”; and

b. Adding a new definition of “Appropriate ATF officer” to read as follows:

§ 250.11 Meaning of terms.

* * * * *

Appropriate ATF Officer. An officer or employee of the Bureau of Alcohol, Tobacco and Firearms (ATF) authorized to perform any functions relating to the administration or enforcement of this part by ATF Order 1130.23, Delegation Order—Delegation of the Director's Authorities in 27 CFR Part 250, Liquors and Articles from Puerto Rico and the Virgin Islands.

* * * * *

Par. 6. Section 250.37 is revised to read as follows:

§ 250.37 United States Bureau of Alcohol, Tobacco and Firearms officers.

Appropriate ATF officers are authorized to collect internal revenue taxes on liquors and articles subject to tax, which are to be shipped to the United States.

Par. 7. Section 250.50a(b)(2) is revised to read as follows:

§ 250.50a Verification of eligible flavors.

* * * * *

(b) * * *

(2) A statement of composition using ATF Form 5154.1 or a letterhead request that lists the—

(i) Name and percentage of alcohol by volume of the flavor; and

(ii) Name and quantity of each ingredient used in the manufacture of the flavor.

* * * * *

§§ 250.52, 250.81, 250.96, 250.105, 250.110, 250.112, 250.112a, 250.126 and 250.222 [Amended]

Par. 8. Part 250 is amended by removing the words “Chief, Puerto Rico Operations” or “Chief, Puerto Rican Operations,” and adding, in substitution, the words “appropriate ATF officer” each place it appears in the following places:

a. Section 250.52(b) and (c);

b. Section 250.81;

c. Section 250.96;

d. Section 250.105;

e. Section 250.110;

f. Section 250.112(c)(1), (c)(4) and (e);

g. Section 250.112a(c)(1);

h. Section 250.126; and

i. Section 250.222(b) and (c).

Par. 9. Section 250.54 is revised to read as follows:

§ 250.54 Filing and disposition of formulas.

Formulas required by this subpart must be submitted, and disposed of, in accordance with the instructions on the prescribed ATF form. The applicant shall maintain copies of approved formulas available for examination by revenue agents.

Par. 10. Section 250.61 is revised to read as follows:

§ 250.61 General.

Every person filing a bond under this subpart, or consent of surety on such bond, must file it in accordance with the instructions on the form.

§§ 250.62a, 250.65, 250.70, 250.70a, 250.71, 250.72, 250.74, 250.75, 250.112, 250.112a, 250.194, 250.276, 250.303 and 250.331 [Amended]

Par. 11. Part 250 is further amended by removing the words “regional director (compliance)” each place they appear and adding, in substitution, the words “appropriate ATF officer” in the following places:

a. Section 250.62a;

b. Section 250.65;

c. Section 250.70;

d. Section 250.70a;

e. Section 250.71(c) and (d);

f. Section 250.72;

g. Section 250.74;

h. Section 250.75;

i. Section 250.112(e);

j. Section 250.112a(b)(3);

k. Section 250.194;

l. The first and second sentence of § 250.276;

m. Section 250.303; and

n. The first and second sentence of § 250.331(b).

Par. 12. Section 250.112(c)(3) is revised to read as follows:

§ 250.112 Returns for semimonthly periods.

(c) Filing. * * *

(3) The remittance may be in any form that is authorized to be accepted under the provisions of § 70.61 of this chapter.

* * * * *

§ 250.112a [Amended]

Par. 13. The first sentence of § 250.112a(b)(1) is amended by removing the words “regional director (compliance), for each region in which taxes are paid” and adding in substitution the words “appropriate ATF officer”.

§ 250.113 [Amended]

Par. 14. Section 250.113(a) is amended by removing the words “on file with the Chief, Puerto Rico Operations”.

§§ 250.116, 250.174 and 250.310 [Amended]

Par. 15. Part 250 is further amended by inserting the word “appropriate” before the words “ATF officer” or “ATF officers” each place they appear in the following places:

a. The second to the last sentence of § 250.116;

b. Section 250.174(a) and (e); and

c. Section 250.310(a) and (e).

Par. 16. The second to the last sentence in § 250.118 is amended by removing the word “director” and adding in substitution the words “district director of customs”.

Par. 17. Section 250.119 is revised to read as follows:

§ 250.119 Disposition of forms by district director of customs.

Two copies of the Form 487B will be forwarded to the appropriate ATF officer, and one copy of the form will be retained by the district director of customs and be available for inspection by appropriate ATF officers.

Par. 18. The second and third sentences of § 250.128 are revised to read as follows:

§ 250.128 Taxpayment at port of arrival.

* * *The tax may be paid to an appropriate ATF officer, and an ATF receipt obtained, or the tax may be paid to the director of customs, who will issue a customs receipt. If payment is to be made to an appropriate ATF officer, the director of customs will notify the appropriate ATF officer of the amount of tax due. * * *

Par 19. Section 250.172 is amended: a. In paragraph (a) by removing the preceding comma and the words “but references therein to a regional director (compliance) shall apply, for purposes of this part, to the Chief, Puerto Rico Operations”;

b. By revising paragraph (b) to read as follows:

§ 250.172 Bonds.

* * * * *

(b) Approval required. No person bringing eligible articles into the United States from Puerto Rico may file monthly claims for drawback under the provisions of this subpart until a bond on ATF Form 5154.3 has been approved.

Par. 20. Section 250.173 is amended by:

a. Revising paragraph (a) to read as set forth below; and

b. Removing the phrase “with the Chief, Puerto Rico Operations,” from the first sentence of paragraph (d).

§ 250.173 Claims for drawback.

(a) General. Persons bringing eligible articles into the United States from Puerto Rico must file claim for drawback on ATF Form 2635 (5620.8). Upon finding that the claimant has satisfied the requirements of this subpart, the appropriate ATF officer must allow the drawback of taxes at a rate of $1 less than the lesser of $10.50 a proof gallon or the rate specified in 26 U.S.C. 5001(a).

* * * * *

§ 250.193 [Amended]

Par. 21. The last sentence of § 250.193(b) is amended by removing the phrase “regional director (compliance) of the consignee's region” and adding, in substitution, the words “appropriate ATF officer”.

§ 250.197 [Amended]

Par. 22. Section 250.197 is amended by removing the phrase “regional director (compliance) of each region in which a consignee's distilled spirits plant is located” and adding, in substitution, the words “appropriate ATF officer”.

Par. 23. Section 250.199f(c) is revised to read as follows:

§ 250.199f Consignee premises.

* * * * *

(c) Distribution of forms. The proprietor shall keep and send copies according the instructions on the form.

* * * * *

Par. 24. Section 250.224 is revised to read as follows:

§ 250.224 Filing and disposition of formulas.

Formulas required by this subpart must be submitted, and disposed of, in accordance with the instructions on the prescribed ATF form. The applicant shall maintain copies of approved formulas available for examination by insular agents.

Par. 25. Section 250.275(a) is revised to read as follows:

§ 250.275 Filing.

(a) All records and reports required by this part will be maintained separately, by transaction or reporting date, at the importer's place of business. The appropriate ATF officer may, pursuant to an application, authorize files, or an individual file, to be maintained at another business location under the control of the importer, if the alternative location does not cause undue inconvenience to appropriate ATF or Customs officers desiring to examine the files or delay in the timely submission of documents.

* * * * *

Par. 26. The first sentence of § 250.276 is revised to read as follows:

§ 250.276 Retention.

All records required by this part, documents or copies of documents supporting these records, and file copies of reports required by this part shall be retained for not less than three years, and during this period shall be available, during business hours, for inspection and copying by appropriate ATF or customs officers. * * *

Par. 27. The undesignated heading preceding § 250.277 is removed.

§ 250.277 [Removed]

Par. 28. Section 250.277 is removed and reserved.

Par. 29. Section 250.308 is amended:

a. By removing in paragraph (a) the preceding comma and the words “, but references therein to a regional director (compliance) shall apply, for purposes of this part to the Chief, Puerto Rico Operations”; and

b. By revising paragraph (b) to read as follows:

§ 250.308 Bonds.

* * * * *

(b) Approval required. No person bringing eligible articles into the United States from the Virgin Islands may file monthly claims for drawback under the provisions of this subpart until a bond on ATF Form 5154.3 has been approved.

Par. 30. Section 250.309 is amended by:

a. Revising paragraph (a) to read as set forth below; and

b. Removing the phrase “with the Chief, Puerto Rico Operations,” from the first sentence of paragraph (d).

§ 250.309 Claims for drawback.

(a) General. Persons bringing eligible articles into the United States from the Virgin Islands must file claim for drawback on ATF Form 2635 (5620.8). Upon finding that the claimant has satisfied the requirements of this subpart, the appropriate ATF officer must allow the drawback of taxes at a rate of $1 less than the lesser of $10.50 a proof gallon or the rate specified in 26 U.S.C. 5001(a).

* * * * *

§ 250.314 [Amended]

Par. 31. Section 250.314 is amended by:

a. Removing the phrase “to the Director” in the second sentence in paragraph (a).

b. Removing the phrase “from the Director” in the third sentence in paragraph (a).

c. Removing the word “Director's” and adding, in substitution, the words “appropriate ATF officer's” in the third sentence in paragraph (b).

Par. 32. Section 250.318 is revised to read as follows:

§ 250.318 Liquor bottles denied entry.

Filled liquor bottles not conforming to the provisions of this subpart shall be denied entry into the United States: Provided, That, upon letterhead application, in triplicate, the appropriate ATF officer may, in nonrecurring cases, authorize the release from customs custody of distilled spirits in bottles, except those coming under the provisions of § 250.316, which, through unintentional error, do not conform to the provisions of this subpart, if such officer finds that such release will not afford jeopardy to the revenue.

§ 250.331 [Amended]

Par. 33. Section 250.331 is further amended by:

a. Removing from the first sentence of paragraph (a) the words “regional director (compliance) of the region in which his place of business is located” and adding, in substitution, the words “appropriate ATF officer”.

b. Removing the second sentence of paragraph (b).

Signed: March 14, 2001.
Bradley A. Buckles,
Director.
Approved: March 28, 2001.
Timothy E. Skud,
Acting Deputy Assistant Secretary (Regulatory, Tariff and Trade Enforcement).

[FR Doc. 01-10673 Filed 4-30-01; 8:45 am]

BILLING CODE 4810-31-P